NATIONAL CREDIT UNION ADMINISTRATION

Agency Information Collection Activities: Submission to OMB for Extension of a Currently Approved Collection; Comment Request

AGENCY: National Credit Union Administration (NCUA).

ACTION: Request for comment.

SUMMARY: The NCUA is submitting the following information collection to the Office of Management and Budget (OMB) for review and clearance under the Paperwork Reduction Act of 1995 (Pub. L. 104-13, 44 U.S.C. Chapter 35). This information collection is published to obtain comments from the public.

DATES: Comments will be accepted until January 3, 2005.

ADDRESSES: Interested parties are invited to submit written comments to the NCUA Clearance Officer listed below:

Clearance Officer: Mr. Neil McNamara, National Credit Union Administration,1775 Duke Street, Alexandria, VA 22314-3428, Fax no. (703) 518-6669, e-mail: mcnamara@ncua.gov.

FOR FURTHER INFORMATION CONTACT: Requests for additional information or a copy of the information collection request, should be directed to Tracy Sumpter at the National Credit Union Administration, 1775 Duke Street, Alexandria, VA 22314-3428, or at (703) 518-6444.

SUPPLEMENTARY INFORMATION: Proposal for the following collection of information:

Title: Central Liquidity Facility Regular Member Membership Application.

OMB Number: 3133-0063.

Form Number: CLF-8702.

Type of Review: Extension of a currently approved collection.

Description: This is a one-time form used to request membership in the CLF.

Respondents: Credit unions seeking membership in the CLF.

Estimated No. of Respondents/Record keepers: 25.

Estimated Burden Hours Per Response: .5 hour.

Frequency of Response: Other. As credit unions request membership in the CLF.

Estimated Total Annual Burden Hours: 12.5 hours.

Estimated Total Annual Cost: 0.

By the National Credit Union Administration Board on October 26, 2004.
Mary Rupp,
Secretary of the Board.

[FR Doc. 04-24365 Filed 11-1-04; 8:45 am]

BILLING CODE 7535-01-P